DEPARTMENT OF HEALTH AND HUMAN SERVICES

Food and Drug Administration

21 CFR Part 516

[Docket No. FDA-2010-N-0534]

RIN 0910-AG58

New Animal Drugs for Minor Use and Minor Species; Confirmation of Effective Date

AGENCY: Food and Drug Administration, HHS.

ACTION: Direct final rule; confirmation of effective date.

SUMMARY: The Food and Drug Administration (FDA) is confirming the effective date of March 30, 2011, for the final rule that appeared in the Federal Register of November 15, 2010 (75 FR 69586). The direct final rule amends the regulations regarding new animal drugs for minor use and minor species (MUMS) to update language and clarify the intent of the regulations consistent with the preambles to the proposed and final rules. This document confirms the effective date of the direct final rule.

DATES: Effective date confirmed: March 30, 2011.

FOR FURTHER INFORMATION CONTACT: Meg Oeller, Center for Veterinary Medicine (HFV-50), Food and Drug Administration, 7500 Standish Pl., Rockville, MD 20855, 240-276-9005, e-mail: margaret.oeller@fda.hhs.gov.

SUPPLEMENTARY INFORMATION: In the Federal Register of November 15, 2010 (75 FR 69586), FDA solicited comments concerning the direct final rule for a 75-day period ending January 31, 2011. FDA stated that the effective date of the direct final rule would be on March 30, 2011, 60 days after the end of the comment period, unless any significant adverse comment was submitted to FDA during the comment period. FDA did not receive any significant adverse comments.

Authority: 21 U.S.C. 360ccc-1, 360ccc-2, 371. Accordingly, the amendments issued thereby are effective.

Dated: February 24, 2011.
Leslie Kux,
Acting Assistant Commissioner for Policy.

[FR Doc. 2011-4593 Filed 3-1-11; 8:45 am]

BILLING CODE 4160-01-P